DEPARTMENT OF ENERGY

Secretary of Energy Advisory Board; Notice of Open Meeting

AGENCY: Department of Energy.

SUMMARY: This notice announces the eighth and final in a series of meetings of the Secretary of Energy Advisory Board's Panel on Emerging Technological Alternatives to Incineration. The Federal Advisory Committee Act (Public Law 92-463, 86 Stat. 770), requires that agencies publish these notices in the Federal Register to allow for public participation.

Name: Secretary of Energy Advisory Board—Panel on Emerging Technological Alternatives to Incineration.

DATES: December 5, 2000, 8 am-9 pm MST; December 6, 2000, 8: am-11:30 am MST.

ADDRESSES: Snow King Resort—400 East Snow King Ave. Jackson, Wyoming 83001. Phone: 307-733-5200, Fax: 307-734-3093.

FOR FURTHER INFORMATION CONTACT: Mary Louise Wagner, Executive Director, or Francesca McCann, Staff Director, Office of the Secretary of Energy Advisory Board (AB-1), U.S. Department of Energy, 1000 Independence Avenue, SW., Washington, DC 20585, (202) 586-7092 or (202) 586-6279 (fax).

SUPPLEMENTARY INFORMATION: The purpose of the Secretary of Energy Advisory Board's Panel on Emerging Technological Alternatives to Incineration is to provide independent external advice and recommendations to the Secretary of Energy Advisory Board on emerging technological alternatives to incineration for the treatment of mixed waste which the Department of Energy should pursue. The Panel will focus on the evaluation of emerging non-incineration technologies for the treatment of low-level, alpha low-level and transuranic wastes containing polychlorinated biphenyls (PCBs) and other hazardous constituents. Waste categories to be addressed include inorganic homogeneous solids, organic homogeneous solids, and soils. The Panel will also evaluate whether the emerging non-incineration technologies could be implemented in a manner that would allow the Department of Energy to comply with all legal requirements, including those contained in the Settlement Agreement and Consent Order signed by the State of Idaho, Department of Energy, and the U.S. Navy in October 1995.

Tentative Agenda

The agenda for the December 5-6, 2000 meeting has not been finalized. However, the meeting will include panel discussion, amendments to the draft report and public comment periods. Members of the public wishing to comment on issues before the Panel on Emerging Technological Alternatives to Incineration will have an opportunity to address the Panel during the scheduled public comment period. The final agenda will be available at the meeting.

Tentative Agenda

December 5th

8 am-8:15 am—Opening Remarks.

8:15 am-8:20 am—Approval of minutes from Nov 6, 20 and 27 Teleconference Meetings.

8:20 am-9:45 am—Report edits.

9:45 am-10 am—Break.

10 am-12 noon Report edits.

12 noon-1 pm—Lunch.

1 pm-2 pm—Public Comment.

2 pm-3 pm—Report edits.

3 pm-3:15 pm—Break.

3:15 pm-4:30 pm—Report edits.

4:30 pm-5:30 pm—Public Comment.

5:30 pm-7 pm—Dinner.

7 pm-9 pm—Public Comment.

December 6th

8 am-10 am—Report edits.

10 am-10:15 am—Break.

10:15 am-11:30 am—Report edits.

11:15 am-11:30 am—Closing remarks and approval of final text to be transmitted to SEAB.

11:30 am—Adjourn Meeting.

Public Participation

In keeping with procedures, members of the public are welcome to observe the business of the Panel on Emerging Technological Alternatives to Incineration and submit written comments or comment during the scheduled public comment period. The Chairman of the Panel is empowered to conduct the meeting in a fashion that will, in the Chairman's judgment, facilitate the orderly conduct of business. During the meeting, the Panel welcomes public comment. Members of the public will be heard in the order in which they sign up at the beginning of the meeting. The Panel will make every effort to hear the views of all interested parties. You may submit written comments to Mary Louise Wagner, Executive Director, Secretary of Energy Advisory Board, AB-1, U.S. Department of Energy, 1000 Independence Avenue, SW, Washington, D.C. 20585.

Minutes

A copy of the minutes and a transcript of the meeting will be made available for public review and copying approximately 30 days following the meeting at the Freedom of Information Public Reading Room, 1E-190 Forrestal Building, 1000 Independence Avenue, SW, Washington, D.C., between 9:00 A.M. and 4:00 P.M., Monday through Friday except Federal holidays. Further information on the Secretary of Energy Advisory Board and its subcommittees may be found at the Board's web site, located at http://www.hr.doe.gov/seab.

Issued at Washington, D.C., on November 15, 2000.
Rachel M. Samuel,
Deputy Advisory Committee Management Officer.

[FR Doc. 00-29735 Filed 11-20-00; 8:45 am]

BILLING CODE 6450-01-P